DEPARTMENT OF EDUCATION

34 CFR Part 280

RIN 1855-AA07

[Docket ID ED-2010-OII-0003]

Magnet Schools Assistance Program

AGENCY: Office of Innovation and Improvement, Department of Education.

ACTION: Interim final rule; reopening comment period.

SUMMARY: On March 4, 2010, the Department of Education published in the Federal Register an interim final rule and requested comments on that rule for the Magnet Schools Assistance Program (MSAP). The rule became effective March 4, 2010, and the comment period for the interim final rule ended on April 5, 2010. During the comment period, the Department received requests asking that the Department extend the comment period for the interim final rule. This document announces the reopening of the comment period.

DATES: The Department reopens the public comment period for the interim final rule that was published in the Federal Register on March 4, 2010 (75 FR 9777). Comments must be received on or before May 17, 2010.

ADDRESSES: Submit your comments through the Federal eRulemaking Portal or via postal mail, commercial delivery, or hand delivery. We will not accept comments by fax or by e-mail. Please submit your comments only one time, in order to ensure that we do not receive duplicate copies. In addition, please include the Docket ID at the top of your comments.

• Federal eRulemaking Portal: Go to http://www.regulations.gov to submit your comments electronically. Information on using Regulations.gov, including instructions for accessing agency documents, submitting comments, and viewing the docket is available on the site under “How To Use This Site.”

• Postal Mail, Commercial Delivery, or Hand Delivery: If you mail or deliver your comments about these interim final regulations, address them to Anna Hinton, U.S. Department of Education, 400 Maryland Avenue, SW., Room 4W229, Washington, DC 20202.

Privacy Note: The Department's policy for comments received from members of the public (including those comments submitted by mail, commercial delivery, or hand delivery) is to make these submissions available for public viewing in their entirety on the Federal eRulemaking Portal at: http://www.regulations.gov. Therefore, commenters should be careful to include in their comments only information that they wish to make publicly available on the Internet.

FOR FURTHER INFORMATION CONTACT: Anna Hinton, U.S. Department of Education, 400 Maryland Avenue, SW., Room 4W229, Washington, DC 20202. Telephone: (202) 260-1816 or by e-mail: FY10MSAPCOMP@ed.gov.

If you use a telecommunications device for the deaf (TDD), call the Federal Relay Service (FRS), toll free, at 1-800-877-8339.

Individuals with disabilities may obtain this document in an accessible format (e.g., braille, large print, audiotape, or computer diskette) on request to the contact person listed above.

SUPPLEMENTARY INFORMATION: The Department reopens the public comment period for the interim final rule that was published in the Federal Register on March 4, 2010 (75 FR 9777) because we have determined that a longer comment period would provide local educational agencies submitting grant applications under the MSAP for fiscal year (FY) 2010 funding and other interested parties an opportunity to submit comments on the interim rule after the May 3, 2010 application deadline date announced for the FY 2010 grant competition in the notice inviting applications published on March 4, 2010 (75 FR 9879).

The Department believes this approach will improve the quality of information available for rulemaking, so the Secretary is reopening the comment period.

Dated: April 16, 2010.
James H. Shelton, III,
Assistant Deputy Secretary for Innovation and Improvement.

[FR Doc. 2010-9195 Filed 4-23-10; 8:45 am]

BILLING CODE 4000-01-P